DEPARTMENT OF THE INTERIOR

National Park Service

[NPS-PWR-PWRO-0215-6786; 8381-1001-NZW]

Water Resources Management Plan/Environmental Impact Statement, Mojave National Preserve, San Bernardino County, CA

AGENCY: National Park Service, Interior.

ACTION: Notice of Intent to Prepare a Water Resources Management Plan/Environmental Impact Statement for Mojave National Preserve.

SUMMARY: In accordance with § 102(2)(C) of the National Environmental Policy Act of 1969, Mojave National Preserve is initiating the conservation planning and environmental impact analysis process needed to inform preparation of a Water Resources Management Plan/Environmental Impact Statement (WRMP/EIS). This plan is intended to guide future management of ground and surface water sources within Mojave National Preserve. Through this process the National Park Service (NPS) will identify and assess potential impacts of a range of alternatives to management of water resources. As part of the EIS process, the NPS will evaluate different approaches for water resources management to determine the potential impacts on land use, water quality, geology, biological and cultural resources, human health and safety, aesthetics, visitor experience, Wilderness, and other stewardship considerations.

Mojave National Preserve (Preserve) is a 1.6 million-acre unit of the National Park System, established by Congress on October 31, 1994, by the California Desert Protection Act. The Act protected a vast expanse of desert lands that represent a combination of Great Basin, Sonoran, and Mojave desert ecosystems. The Act also specified hunting as a permitted activity within the Preserve. By the time of establishment, many artificial water sources had been developed within the Preserve to support cattle grazing operations and game populations. Human manipulation of natural springs and seeps, with intermittent maintenance, enhanced surface flow to provide additional water for the same purposes. There also existed 133 small game wildlife water developments (also known as “guzzlers” or “drinkers”), and 6 big game guzzlers, which intercept and store rainwater for wildlife use. All of the big game guzzlers and many of the small game water developments are in areas of the Preserve which are now designated Wilderness.

Since 1998, private donors have purchased and retired approximately 1,260,980 acres of grazing land in the Preserve. As cattle have been removed, watering troughs, windmills, and pipelines were also removed or fell into disrepair. This has led to calls by some hunting proponents to convert abandoned wells to game guzzlers. Conversely, wildlife advocates have cited guzzler-related injuries to bighorn sheep, protected desert tortoises, and other wildlife species as a rationale for reducing the number of water developments.

Since 1994, the NPS has managed water sources in the Preserve on a case-by-case basis, while conducting inventories and studies to develop the information needed for an ecosystem-scale management approach. The Preserve's general management plan (GMP) identified the need to develop a comprehensive ecosystem-scale Water Resources Management Plan for springs, seeps, water diversions, and artificial water sources to maintain healthy wildlife communities and groundwater flow conditions at safe yields—this conservation planning effort seeks to fulfill that objective. Desired future condition goals will be developed through public engagement with hunting groups, environmental organizations, park visitors, local, state and Federal agencies, and other interested parties, in keeping with existing laws, regulations, and NPS management policies.

Surface water availability in the form of springs and seeps is a function of groundwater flow and discharge. The relationship between groundwater, surface water, and wells is complex. Preserve stewardship and resource management activities must be guided by general principles that can be applied to specific problems. Developing and clearly explaining how these principles should be applied is a goal of the Draft WRMP/EIS. The relationship between surface water availability and wildlife populations is also multifaceted, and may be complicated by the potential effects of climate change. The Draft WRMP/EIS will provide the basis for preserving wildlife and preventing resource impairment.

DATES: To facilitate sound planning and consideration of environmental resources, the NPS intends to gather information necessary for preparing the Draft WRMP/EIS and to obtain suggestions from the public on issues and concerns which should be addressed. The NPS is seeking pertinent environmental information regarding scope of the analysis, and suggestions regarding preliminary alternatives which should be considered. All comments must be postmarked or transmitted not later than July 11, 2011. Full public participation by park stakeholders, concerned organizations and private citizens, as well as Federal, State, and local agencies, is invited so as to fully inform the process of preparing the Draft WRMP/EIS. Four public meetings will be hosted during the scoping period: June 27 (Henderson, NV), June 28 (Needles, CA), June 29 (San Bernardino, CA), and June 30 (Barstow, CA). Confirmed details on time and location will be announced in the local press and on the park Web site (http://www.nps.gov/moja); details may also be obtained by contacting the Preserve directly. These meetings will provide current information and respond to questions and comments on issues and alternatives to assist NPS in developing the Draft WRMP/EIS.

SUPPLEMENTARY INFORMATION: Periodically updated information will be available on the project Web site at http://parkplanning.nps.gov/mojave_water. You may request to be added to the project mailing list by mailing, e-mailing, or faxing your request to: Superintendent, Mojave National Preserve, Attn: Mojave WRMP, 2701 Barstow Road, Barstow, California 92311 (E-mail: MOJA_Superintendent@nps.gov and Fax: (760) 252-6171). Please note in your request whether you wish to receive a printed or compact disk version of the Draft WRMP/EIS, or just wish to receive notice that the document is available for review.

If you wish to comment during the scoping phase for the Draft WRMP/EIS, you may use any one of several methods. To comment electronically, submit your comments online by visiting the project Web site http://parkplanning.nps.gov/mojave_water. If you wish to submit written comments (e.g., in a letter), you may send your comments via U.S. Postal Service (or other mail delivery service) or hand-deliver them to the address provided above. Oral statements and written comments will also be accepted during public meetings. Comments will not be accepted by fax, e-mail, or in any other way than those specified above. Comments in any format (hard copy or electronic) submitted by an individual or organization on behalf of another individual or organization also will not be accepted.

Before including your address, phone number, e-mail address, or other personal identifying information in your comment, you should be aware that your entire comment—including your personal identifying information—may be made publicly available at any time. While you can ask us in your comment to withhold your personal identifying information from public review, we cannot guarantee that we will be able to do so.

Decision Process: Following careful analysis of all responses received concerning the Draft WRMP/EIS, a final plan will be prepared and its availability similarly announced in the Federal Register. Thereafter, but not sooner than 30 days after release of the Final WRMP/EIS, a Record of Decision would be prepared. As a delegated EIS, the official responsible for final approval of the Water Resources Management Plan is the Regional Director, Pacific West Region. Subsequently the official responsible for implementation of the approved plan would be the Superintendent, Mojave National Preserve.

Dated: February 10, 2011.
Patricia L. Neubacher,
Acting Regional Director, Pacific West Region.

[FR Doc. 2011-11410 Filed 5-10-11; 8:45 am]

BILLING CODE 4310-6E-P